DEPARTMENT OF TRANSPORTATION

Federal Aviation Administration

14 CFR Part 71

[Docket No. FAA-2004-17896; Airspace Docket No. 04-AGL-13]

Modification of Class D Airspace; Grissom ARB, IN

AGENCY: Federal Aviation Administration (FAA), DOT.

ACTION: Final rule.

SUMMARY: This action modifies Class D airspace at Grissom ARB, IN, where Instrument Flight Rules Category E circling procedures are being used. This action increases the current area of the Class D airspace.

EFFECTIVE DATE: 0901 UTC, July 7, 2005.

FOR FURTHER INFORMATION CONTACT: J. Mark Reeves, FAA, Terminal Operations, Central Service Office, Operations Branch, AGL-530, Federal Aviation Administration, 2300 East Devon Avenue, Des Plaines, Illinois 60018, telephone (847) 294-7477.

SUPPLEMENTARY INFORMATION:

History

On Thursday, September 23, 2004, the FAA proposed to amend 14 CFR part 71 to modify the Class D airspace area at Grissom, ARB, IN. The proposal was to increase the existing radius of the Class D airspace area to allow for IFR Category E circling procedures.

Interested parties were invited to participate in this rulemaking proceeding by submitting written comments on the proposal. One comment was received and reviewed prior to taking any final action this matter. It stated objection and provided other comments on the proposal. The comment expressed concern that the proposed expansion of the Class D airspace area would create a burden on the flying public. There were also comments pertaining to the belief that there is a lack of funding for training flights, and other operational concerns that would render the expansion as proposed unnecessary.

In response to the comment received, and taking into consideration the concerns of the commenter, discussions were held between the FAA and the military to see if a modification could be made to the proposed expansion. The military, in a letter, explained the need for the expansion as proposed due to training and proficiency needs. They do have the budget to support this, and their simulators are not set up to accomplish this. Except for a 1.1-mile increase to the existing Class D airspace radius, the Class D airspace area would remain unchanged.

The Rule

This amendment to 14 CFR part 71 modifies the Class D airspace area at Grissom ARB, IN. The area will be depicted on appropriate aeronautical charts.

The FAA has determined that this regulation only involves an established body of technical regulations for which frequent and routine amendments are necessary to keep them operationally current. Therefore this, proposed regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

The Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9M, Airspace Designations and Reporting Points, dated August 30, 2004, and effective September 16, 2004, is amended as follows:

* * * * *

Paragraph 5000 Class D airspace.

AGL IN D Grissom ARB, IN [Revised]

(Lat. 40° 38′53″ N., long. 86° 09′08″ W.)

That airspace extending upward from the surface to and including 3,300 feet MSL within a 5.6-mile radius of Grissom ARB. This Class D airspace is effective during the specific dates and times established in advance by a Notice to Airmen. The effective date and time will thereafter be continuously published in the Airport/Facility Directory.

* * * * *

Issued in Des Plaines, Illinois on March 11, 2005.
Nancy B. Kort,
Area Director, Central Terminal Operations.

[FR Doc. 05-6655 Filed 4-1-05; 8:45 am]

BILLING CODE 4910-13-M